DEPARTMENT OF EDUCATION

Office of Special Education and Rehabilitative Services; Overview Information; Special Education—Research and Innovation To Improve Services and Results for Children With Disabilities—Reading Interventions for Students With Mental Retardation; Notice Inviting Applications for New Awards for Fiscal Year (FY) 2004

Catalog of Federal Domestic Assistance (CFDA) Number:84.324K.

Dates: Applications Available: July 14, 2004.

Deadline for Transmittal of Applications: August 30, 2004.

Eligible Applicants: State educational agencies (SEAs); local educational agencies (LEAs); institutions of higher education (IHEs); other public agencies; nonprofit private organizations; outlying areas; freely associated States; and Indian tribes or tribal organizations.

Estimated Available Funds: $4,800,000.

Estimated Average Size of Awards: $600,000.

Maximum Award: We will reject any application from a single entity that proposes a budget exceeding $600,000 for a single budget period of 12 months. However, we will consider proposals up to $1,000,000 per year if the proposal is from multiple institutions, or any other group of eligible parties that meet the requirements of 34 CFR 75.127 to 75.129, and permits assembling of larger samples that address the priority described elsewhere in this notice. The Assistant Secretary for Special Education and Rehabilitative Services may change the maximum amount through a notice published in the Federal Register.

Estimated Number of Awards: 8.

Note: Given a sufficient number of approved high quality applications, the Department intends to fund at least one project addressing students with mild to moderate mental retardation, at least one project addressing students with moderate to severe mental retardation, and at least one project addressing the full continuum of mild to severe mental retardation.

Note: The Department is not bound by any estimates in this notice.

Project Period: Up to 60 months.

Full Text of Announcement

I. Funding Opportunity Description

Purpose of Program: The purpose of this program is to produce, and advance the use of, knowledge to improve the results of education and early intervention for infants, toddlers, and children with disabilities.

Priority: In accordance with 34 CFR 75.105(b)(2)(iv), this priority is from allowable activities specified in the statute (see sections 661(e)(2) and 672 of IDEA).

Absolute Priority: For FY 2004 this priority is an absolute priority. Under 34 CFR 75.105(c)(3) we consider only applications that meet this priority.

This priority is:

Reading Interventions for Students with Mental Retardation.

Background: This priority addresses the development and evaluation of scientifically based reading interventions for students with mental retardation. This population includes students with a range of intellectual disabilities on a continuum from mild to severe mental retardation. This priority stems from the recognition that there is a lack of adequate scientifically based research on interventions that will accelerate development of reading skills in students with mental retardation. In addition, the extent to which progress in reading interventions generalizes to performance on content-based assessments such as those permitted in State accountability assessments is not established. Finally, there are questions specific to students with mental retardation that involve whether improvement in reading skills impacts functional skills, adaptive behavior, and school/community integration or whether improvement of reading skills in a classroom or curricular contexts is generalized to other settings and applications.

One promising approach to research on reading instruction for students with mental retardation may be derived from research on interventions with established efficacy for students with intellectual levels in the average range. The critical question is the extent to which such interventions are effective with students who function at intellectual levels associated with mental retardation. Although many initial reading intervention studies excluded students with intellectual levels below the average range, more recent interventions have included many students participating in regular education classes. The range of intellectual levels, largely on verbal measures, typically includes a small number of children with scores more than two standard deviations below the mean as well as students at the cusp of decisions concerning the presence of mild to moderate mental retardation. Many of these students would have been categorized as students with mental retardation in the past and are now often identified in the learning disability category. Irrespective of the category, little empirical evidence exists showing that scores on measures of intelligence are strongly related to responses to these interventions. In addition, this evidence largely involves the use of word recognition measures as outcomes. The extent to which such gains generalize to the other important domains of reading, especially fluency and comprehension, is not known, especially in lower performing students. Moreover, the findings of these studies are rarely linked to State content standards as exemplified by general assessments or alternate assessments based on grade level achievement standards or alternate achievement standards.

A second promising approach is derived from studies utilizing approaches based on the functional analysis of behavior involving, for example, stimulus control methods, direct teaching of functional skills, and other promising approaches. It is recognized that such interventions have involved direct teaching of academic content or the use of functional skills that may improve access to the general curriculum. Also, it is important to link research on interventions to State content standards as exemplified by general assessments or alternate assessments based on grade-level achievement standards or alternate achievement standards.

Comparisons of the relative efficacy of these two approaches are encouraged, especially in relation to improved reading abilities, adequate yearly progress, access to and progress in the general education curriculum and transfer to adaptive behavior and school/community integration, including daily routines. It is especially important for these types of interventions to clearly specify the target behavior, timeframe for progress, prompting system, reward system, requirements for fading and transfer, and other components of the intervention. Generalization beyond the target behavior into components clearly representative of word recognition, fluency, and comprehension is critical. Although whole group instruction and cooperative learning activities within an inclusive environment do show evidence of efficacy, students with intellectual disabilities typically require systematic and often individualized instruction.

Although these two approaches are readily apparent in the existing literature, other well-justified approaches may be proposed that represent combinations of principles from these two approaches or some other approach to instruction.

Priority: This priority is for research on the development and evaluation of reading interventions involving one or both of two target groups addressing (1) students with performance levels in the range of mild to moderate mental retardation; and (2) students with performance levels in the range of moderate to severe mental retardation. It is anticipated that in order to address the first target group, currently existing reading interventions with evidence of efficacy will be evaluated and, if necessary, adapted for students. Please note that the sample may include children who perform somewhat above levels associated with mild mental retardation, especially given the nature of the error of measurement associated with such categorical designations. However, including children who obtain intelligence test scores within one standard deviation of the mean is not encouraged. To address the second target group, interventions specifically designed for individuals in the range of moderate to severe mental retardation may need to be developed and implemented.

Applicants are allowed some startup time to organize the research, but should explain the rationale for the time period they begin data collection and budget appropriately for the startup period. Within a month of receiving the award, grantees will be required to meet in Washington, DC to develop common procedures that will permit linking of the funded studies. This linking may require agreement on a set of common identification measures for children and outcome measures collected by all projects that will help evaluate findings across studies and generalize findings.

In addition to the following specific requirements, all applications must (i) provide a compelling rationale addressing the theoretical foundation of the research and its link to reading, relevant prior empirical evidence supporting the proposed project, and the practical importance of the proposed project; (ii) include clear, concise hypotheses or research questions; (iii) present a clear description of the sample or study participants, including justification for exclusion and inclusion criteria and, where groups or conditions are involved, strategies for assigning participants to groups; (iv) provide clear descriptions and a rationale for all data collection procedures and measures to be used; and (v) present a detailed data analysis plan that justifies and explains the selected analytic strategy, shows clearly how the measures and analyses relate to the hypotheses or research questions, and indicates how the results will be interpreted. Quantitative studies should include a power analysis to provide some assurance that the sample is of sufficient size. Innovation is encouraged provided the rationale is clearly outlined, there is some evidence suggesting that the approach has promise, and the study design permits a rigorous evaluation of the approach.

In addition, proposals must:

(a) Address the conceptual basis and critical elements of the reading interventions, particularly in terms of the components of reading that are addressed. It is recommended that the components be consistent with reports that address the empirical evidence supporting the nature of proficient reading, such as the National Reading Panel, the National Research Council's Preventing Reading Difficulties in Young Children, and the Rand Reading Comprehension reports.

(b) Address the duration of the interventions. Students with mental retardation may require longer periods of intervention in order to respond. Applicants must provide a rationale for: (1) The duration of the interventions, (2) how the interventions with evidence of efficacy need to be modified, and (3) if applicable, the manipulation of duration and intensity of the intervention as a component of the research. Some evidence from studies not specifically targeting children with mental retardation suggests that students with severe reading problems respond to interventions on highly targeted reading skills over short periods of time (e.g., eight weeks) when the intervention is delivered with high intensity (e.g., two hours per day). However, longer term interventions may be needed to promote transfer, generalization, and improved access to and progress in the general education curriculum. These are empirical questions that could be the focus of a sequence of studies conducted under this application.

(c) Clearly define the populations of interest so that results can be replicated and questions concerning factors related to response to intervention can be addressed. The etiologies of children with mental retardation are diverse and often occur in association with a variety of genetic and environmental factors as well as with other disabilities, such as autism and pervasive developmental disorders. No subdivision of the children with mental retardation is intended for the purposes of this competition. Applicants are encouraged to assemble diverse samples, so long as etiological factors, co-morbidities, and indices of mild to severe mental retardation are carefully documented as possible variables in explaining variations in response to reading interventions. Defining the population may include providing data on the intellectual and adaptive behavior levels of the students as formally assessed.

(d) Evaluate multiple reading outcomes through the use of reliable and valid assessment instruments that establish whether gains generalize to domains involving word recognition, fluency, and comprehension. To the extent practicable, such assessments should include both norm referenced and criterion-referenced assessments, the latter related to established benchmarks, such as State content standards and alternate achievement standards as they are developed. A strong theoretical basis for selecting and measuring outcomes is important.

(e) Propose follow-up evaluation intervals of sufficient length to evaluate the maintenance and generalization of gains in different reading skills. Although the specification of the follow-up intervals may depend on the nature of the intervention, it is important to carefully address maintenance and generalization in terms of sufficiently long follow-up intervals and the impact on word recognition, fluency, comprehension, and improved access to and progress in the general education curriculum. Several years of follow-up may be important depending on the nature of the intervention and the goals of the research; however, only a maximum of five years of funding is available through this competition. For some smaller scale projects, where the goal is simply to determine the efficacy of an existing intervention in the sample of interest, long-term follow-up may not be essential. Larger projects utilizing more established interventions will need longer follow-ups, especially if the goal is to link the intervention to mastery of State content standards or alternate achievement standards. These interventions could occur across one or more school years as a sequence of interventions addressing different components of the reading process.

(f) Specifically evaluate the extent to which gains in reading skills are associated with (1) progress in the general education curriculum, and (2) changes in functional skills (including language and communication), and adaptive behavior (including level of independent function and integration into the general education classroom and, if applicable, community).

(g) Summarize and build upon the empirical evidence on the efficacy of an intervention for the population of interest.

(h) Utilize experimental designs appropriate for questions involving efficacy. In particular, the Department encourages designs involving random assignment to intervention and appropriate comparison groups, but recognizes that other designs may be appropriate, such as the use of multiple baseline designs for students with severe cognitive disabilities. Even in the latter instance, the use of comparison subjects randomly assigned at some point not to receive the intervention should be considered. When appropriate, the sample size should be large enough to indicate adequate power for detecting small to moderate effects of the intervention, to permit generalization to other contexts, and to permit examination of factors that predict response to intervention. Applicants proposing to use other approaches, such as quasi-experiments with matched groups and statistical controls, should carefully justify their approach in terms of the ability to make causal inferences, and provide a compelling rationale for why random assignment is not practical or appropriate. Observational, survey, or qualitative methodologies are encouraged as a complement to experimental methodologies to assist in the identification of factors that may explain the effectiveness or ineffectiveness of the intervention. Mediating and moderating variables that are measured in the intervention condition that are also likely to affect outcomes in the comparison condition should be measured in the comparison condition (e.g., student time-on-task, teacher experience/time in position).

(i) Provide detailed descriptions of data analysis procedures. For quantitative data, specific statistical procedures should be cited. For qualitative data, the specific methods used to index, summarize, and interpret data should be delineated. In addition, documentation of the resources required to implement the program and a cost analysis must be part of the study.

(j) Provide information documenting the credentials and level of preparation required to deliver the intervention (e.g., certified teacher, paraprofessional) and the nature and extent of professional development, coaching, and monitoring required in order to implement the intervention effectively. In addition, other components found to be effective in previous studies, including team planning, positive behavior supports, parental involvement, administrative leadership, and related factors should be considered and documented.

(k) Provide information about and a rationale concerning the education setting and environment in which the intervention is effective (e.g., regular education inclusion classroom, regular education classroom with pull-out support, self-contained classroom, community setting). The size of the instructional group is an important consideration, especially given the emerging evidence that small group instruction is as effective as 1:1 instruction in the reading area.

(l) Include in the research designs components that permit the identification and assessment of factors impacting the fidelity of implementation and quality of instruction (if applicable) through quantitative and qualitative approaches and specifically address relations of fidelity and quality of implementation and outcomes.

(m) Provide methods and rationale that permit systematic, empirical evaluation of factors that predict differential response to intervention. Qualitative analyses of these types of process variables are entirely appropriate, particularly as they relate to the context and environment in which the intervention is differentially successful, so long as qualitative methods are not proposed for questions of efficacy.

(n) Provide a plan for potentially sustaining the intervention and scaling it to other settings. Scaling is not required, but the potential for scaling should be considered.

(o) Address the use of technology, including augmentative and alternative communication (AAC) devices, and other forms of assistive technology, if appropriate, especially for students with moderate to severe mental retardation or with severe oral language disorders. If such devices are used, the link with enhanced reading must be demonstrated. Interventions that involve the use of computers are also appropriate.

(p) Budget for a two-day Project Directors' meeting in Washington, DC during each year of the project.

(q) If the project has a Web site, include relevant information and documents in an accessible form.

Waiver of Proposed Rulemaking

Under the Administrative Procedure Act (5 U.S.C. 553) the Department generally offers interested parties the opportunity to comment on proposed priorities. However, section 661(e)(2) of the IDEA makes the public comment requirements inapplicable to the priority in this notice.

Program Authority: 20 U.S.C. 1461 and 1472.

Applicable Regulations: The Education Department General Administrative Regulations (EDGAR) in 34 CFR parts 74, 75, 77, 80, 81, 82, 84, 85, 86, 97, 98, and 99.

Note: The regulations in 34 CFR part 86 apply to IHEs only.

II. Award Information

Type of Award: Cooperative agreement.

Estimated Available Funds: $4,800,000.

Estimated Average Size of Awards: $600,000.

Maximum Award: We will reject any application that proposes a budget exceeding $600,000 for a single budget period of 12 months. However, we will consider proposals up to $1,000,000 per year if the proposal is from multiple institutions, or any other group of eligible parties that meet the requirements of 34 CFR 75.127 to 75.129, and permits assembling of larger samples that address this initiative. The Assistant Secretary for Special Education and Rehabilitative Services may change the maximum amount through a notice published in the Federal Register.

Estimated Number of Awards: 8.

Note: Given a sufficient number of approved high quality applications, the Department intends to fund at least one project addressing students with mild to moderate mental retardation, at least one project addressing students with moderate to severe mental retardation, and at least one project addressing the full continuum of mild to severe mental retardation.

Note: The Department is not bound by any estimates in this notice.

Project Period: Up to 60 months.

III. Eligibility Information

1. Eligible Applicants: SEAs; LEAs; IHEs; other public agencies; nonprofit private organizations; outlying areas; freely associated States; and Indian tribes or tribal organizations.

2. Cost Sharing or Matching: This competition does not involve cost sharing or matching.

3. Other: General Requirements—(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

IV. Application and Submission Information

1. Address to Request Application Package: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA Number 84.324K.

Individuals with disabilities may obtain a copy of the application package in an alternative format (e.g., Braille, large print, audiotape, or computer diskette) by contacting the person listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the résumés, the bibliography, the references, the letters of support, or the appendix. However, you must include all of the application narrative in Part III.

We will reject your application if—

• You apply these standards and exceed the page limit; or

• You apply other standards and exceed the equivalent of the page limit.

3. Submission Dates and Times:

Applications Available: July 14, 2004.

Deadline for Transmittal of Applications: August 30, 2004.

The dates and times for the transmittal of applications by mail or by hand (including a courier service or commercial carrier) are in the application package for this competition. The application package also specifies the hours of operation of the e-Application Web site.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this competition.

Application Procedures:

Note: Some of the procedures in these instructions for transmitting applications differ from those in EDGAR 34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. Special Education—Research and Innovation to Improve Services and Results for Children with Disabilities Program—Reading Interventions for Students with Mental Retardation—CFDA Number 84.324K is one of the competitions included in this project. If you are an applicant under the Special Education—Research and Innovation to Improve Services and Results for Children with Disabilities Program—Reading Interventions for Students with Mental Retardation, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you elect to participate in the e-Application pilot for the Special Education—Research and Innovation to Improve Services and Results for Children with Disabilities Program—Reading Interventions for Students with Mental Retardation competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Special Education—Research and Innovation to Improve Services and Results for Children with Disabilities Program—Reading Interventions for Students with Mental Retardation at: http://www.grants.gov.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing indicators and measures that will yield information on various aspects of the quality of the Research and Innovation to Improve Services and Results for Children with Disabilities program. Included in these indicators and measures will be those that assess the quality and relevance of newly funded research projects. Two indicators will address the quality of new projects. First, an external panel of eminent senior scientists will review the quality of a randomly selected sample of newly funded research applications, and the percentage of new projects that are deemed to be of high quality will be determined. Second, because much of the Department's work focuses on questions of effectiveness, newly funded applications will be evaluated to identify those that address causal questions and then to determine what percentage of those projects use randomized field trials to answer the causal questions. To evaluate the relevance of newly funded research projects, a panel of experienced education practitioners and administrators will review descriptions of a randomly selected sample of newly funded projects and rate the degree to which the projects are relevant to practice.

Other indicators and measures are still under development in areas such as the quality of project products and long-term impact. Data on these measures will be collected from the projects funded under this notice. Grantees will also be required to report information on their projects' performance in annual reports to the Department (EDGAR, 34 CFR 75.590).

We will notify grantees of the performance measures once they are developed.

VII. Agency Contact

For Further Information Contact: Kristen Lauer, U.S. Department of Education, 400 Maryland Avenue, SW., room 4077, Potomac Center Plaza, Washington, DC 20202-2550. Telephone: (202) 245-7412.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: 1-202-205-8207.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: July 8, 2004.
Troy R. Justesen,
Acting Deputy Assistant Secretary for Special Education and Rehabilitative Services.

[FR Doc. 04-15840 Filed 7-12-04; 8:45 am]

BILLING CODE 4000-01-P